SURFACE TRANSPORTATION BOARD

[Docket No. FD 36742]

Lakeshore Terminal Railroad LLC—Acquisition and Operation Exemption—Track in Lake County, Ind.

Lakeshore Terminal Railroad LLC (Lakeshore Terminal), a noncarrier, has filed a verified notice of exemption pursuant to 49 CFR 1150.31 to acquire and operate approximately 0.5 miles (2,854 feet) of what is currently private industry track in East Chicago, Lake County, Ind., extending from a point of connection with Indiana Harbor Belt Railroad Company to the end of track (the Line).

This transaction is related to a verified notice of exemption concurrently filed in Patriot Rail Company—Continuance in Control Exemption—Lakeshore Terminal Railroad, Docket No. FD 36743, in which Patriot Rail Company LLC and a number of other related applicants seek to continue in control of Lakeshore Terminal upon Lakeshore Terminal's becoming a Class III rail carrier.

According to Lakeshore Terminal, its noncarrier corporate affiliate, Lakeshore Railcar & Tanker Services LLC (Lakeshore Services), currently owns the Line and uses it for non-common carrier activity (primarily, freight car repair and cleaning). The verified notice states that Lakeshore Terminal and Lakeshore Services have an agreement under which Lakeshore Services will convey the Line to Lakeshore Terminal for the initiation of railroad common carrier service. Lakeshore Terminal states that it will operate and provide all rail common carrier service to customers on the Line and connecting ancillary trackage once the exemption becomes effective.

Lakeshore Terminal certifies that it will not be subject to any limitations on its ability to interchange with a third-party connecting carrier. Lakeshore Terminal also certifies that its projected annual revenues are not expected to exceed $5 million and that the proposed transaction will not result in Lakeshore Terminal's becoming a Class I or Class II rail carrier.

The earliest this transaction may be consummated is December 31, 2023, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than December 22, 2023 (at least seven days before the exemption becomes effective).

All pleadings, referring to Docket No. FD 36742, must be filed with the Surface Transportation Board either via e-filing on the Board's website or in writing addressed to 395 E Street SW, Washington, DC 20423-0001. In addition, a copy of each pleading must be served on Lakeshore Terminal's representative, Robert A. Wimbish, Fletcher & Sippel LLC, 29 North Wacker Drive, Suite 800, Chicago, IL 60606-3208.

According to Lakeshore Terminal, this action is categorically excluded from environmental review under 49 CFR 1105.6(c) and from historic preservation reporting requirements under 49 CFR 1105.8(b).

Board decisions and notices are available at www.stb.gov.

Decided: December 12, 2023.
By the Board, Mai Dinh, Director, Office of Proceedings.
Tammy Lowery,
Clearance Clerk.

[FR Doc. 2023-27636 Filed 12-14-23; 8:45 am]

BILLING CODE 4915-01-P